DEPARTMENT OF STATE

[Public Notice: 11101]

Notice of Public Meeting of the International Telecommunication Advisory Committee and Preparations for Upcoming International Telecommunications Meetings

This notice announces a conference call of the Department of State's International Telecommunication Advisory Committee (ITAC). The ITAC session will be on conference call only on Tuesday, May 5, 2020 to review the results of recent meetings on international telecommunication policy meetings and preview upcoming related activities.

The meeting will focus on the following topics:

1. The World Telecommunication Standardization Assembly (WTSA-20) taking place in the fourth quarter of 2020, including positions on study program restructuring and leadership. The WTSA, the quadrennial assembly of the ITU Telecommunication Standardization Sector (ITU-T), will consider the reports of the ITU-T Study Groups, approve the sector's program of work, decide the Study Group structure, and appoint chairmen and vice-chairmen. At the ITAC meeting, we invite comment from the public on the U.S. priorities for WTSA 2020.

The meeting will also highlight preparations for the 2020 session of the ITU Council taking place from June 9, 2020 to June 19, 2020 and related ITU Council Working Groups. The Council acts as the governing body between plenipotentiary conferences.

2. Other ITU-T meetings.

3. ITU-D Telecommunication Development Sector.

4. Inter-American Telecommunication Commission (CITEL).

5. Council Working Groups (CWG).

6. Organization for Economic Cooperation and Development (OECD) Committee on Digital Economy Policy (CDEP).

7. Asia Pacific Economic Corporation Telecommunications (APECTEL).

Participation on the ITAC call is open to the public. The public will have an opportunity to provide comments on the call at the invitation of the chair. Persons wishing to request reasonable accommodation during the meeting should send their requests to ITAC@state.gov no later than April 29, 2020. Accommodations may not be possible for requests made after that time.

Further details on this ITAC conference call will be announced through the Department of State's email list, ITAC@lmlist.state.gov. Use of the ITAC list is limited to International Communication Information Policy (CIP) personnel and is used for meeting announcements and confirmations, distribution of agendas and other relevant meeting documents. The Department welcomes any U.S. citizen or legal permanent resident to join the ITAC listserv by emailing ITAC@state.gov and providing their name, email address, telephone contact and company, organization, or community that will be represented.

This announcement might appear in the Federal Register less than 15 days prior to the meeting. The Department of State finds that there is an exceptional circumstance in that this advisory committee meeting must be held on May 5, due to the need to brief the community on the issues noted above, and because of difficult scheduling issues brought about by the ongoing public health emergency.

Please send all inquiries to ITAC@state.gov.

Zachary A. Parker,
Director, Office of Directives Management, U.S. Department of State.

[FR Doc. 2020-08676 Filed 4-23-20; 8:45 am]

BILLING CODE 4710-07-P